ENVIRONMENTAL PROTECTION AGENCY

[ER-FRL-6659-9]

Environmental Impact Statements; Notice of Availability

Responsible Agency: Office of Federal Activities, General Information (202) 564-7167 or http://www.epa.gov/compliance/nepa/.

Weekly receipt of Environmental Impact Statements

Filed January 17, 2005 through January 21, 2005

Pursuant to 40 CFR 1506.9.

EIS No. 050017, Final EIS, NOA, ME, MA, RI, NH, CT, Atlantic Herring Fishery Management Plan, Minimizing Impacts on Essential Fish Habitat of Any Species, Gulf of Maine—Georges Bank, ME, NH, MA, CT and RI, Wait Period Ends: February 22, 2005, Contact: Peter D. Colosi (978) 281-3332.

The above NOA EIS should have appeared in the 01/21/2005 Federal Register. The 30 day Wait Period is Calculated from 01/21/2005.

EIS No. 050018, Draft EIS, FAA, IL, O'Hare Modernization Program, Proposes Major Development, Chicago O'Hare International Airport, Airport Layout Plan (ALP), Federal Funding, US Army COE Section 404 Permit, City of Chicago, IL, Comment Period Ends: March 23, 2005, Contact: Michael W. MacMullen (847) 294-8339.

The above FAA EIS should have appeared in the 01-21-2005 Federal Register.

EIS No. 050019, Final EIS, AFS, AK, Shoreline Outfitter/Guide Plan, Commercial Permits Issuance for Shoreline-Based Activities on National Forest System Lands, Admiralty Island National Monument, Hoonah, Sitka and Juneau Ranger Districts, Tongass National Forest, AK, Wait Period Ends: February 28, 2005, Contact: Bill Tremblay (907) 772-5877.

EIS No. 050020, Draft EIS, USN, FL, Navy Air-To-Ground Training at Avon Park Air Force Range, To Conduct Air-to-Ground Ordnance Delivery and Training, Fleet Forces Command's Fleet Readiness Training Program (FRTP), Polk and Highlands Counties, FL, Comments Period Ends: March 14, 2005, Contact: Will Sloger (843) 820-5797.

EIS No. 050021, Draft EIS, NRC, WI, Generic-License Renewal for Point Beach Nuclear Plant, Units 1 and 2, Supplement 23, to NUREG-1437 (TAC Nos. MC2049 and MC2050), Lake Michigan, Manitowoc County, WI, Comment Period Ends: April 13, 2005, Contact: Stacey Imboden (301) 415-2462.

EIS No. 050022, Draft EIS, AFS, WA, Methow Transmission Project, Construction of New Transmission Line or Reconstruction an Existing Line, Okanogan and Wenatchee National Forests, Methow Valley Ranger District, Okanogan County, WA, Comment Period Ends: March 15, 2005, Contact: Jan Flatten (509) 826-3277.

EIS No. 050023, Final EIS, DOE, SC, Savannah River Site Construction and Operation of a Mixed Oxide (MOX) Fuel Fabrication Facility, NUREG-1767, Aiken, Barnwell and Allendale Counties, SC, Wait Period Ends: February 28, 2005, Contact: Matthew Blevins (301) 415-7684.

EIS No. 050024, Draft EIS, AFS, CO, Gold Camp Road Plan, Develop a Feasible Plan to Manage the Operation of Tunnel #3 and the 8.5 mile Road Segment, Pike National Forest, Pikes Peak Ranger District, Colorado Springs, El Paso County, CO, Comment Period Ends: March 29, 2005, Contact: Frank Landis (719) 477-4203.

EIS No. 050025, Final EIS, UAF, TX, Relocation of the C-5 Formal Training Unit from Altus Air Force Base, Oklahoma to Lackland Air Force Base, Bexar County, TX, Wait Period Ends: February 28, 2005, Contact: Lt.Col. Dee Anderson (210) 671-2907.

EIS No. 050026, Draft EIS, BIA, WI, Beloit Casino Project, To Expand to Tribal Governmental Revenue Base, St. Croix Chippewa Indians of Wisconsin and Bad River Band of the Lake Superior Tribe of Chippewa Indians, Rock County, WI, Comment Period Ends: March 14, 2005, Contact: Herb Nelson (612) 713-4400.

EIS No. 050027, Final EIS, BLM, AK, Northeast National Petroleum Reserve Alaska Amended Integrated Activity Plan, To Amend 1998 Northeast Petroleum Reserve, To Consider Opening Portions of the BLM-Administrated Lands, North Slope Borough, AK, Wait Period Ends: February 28, 2005, Contact: Susan Childs (907) 271-1985.

EIS No. 050028, Draft Supplement EIS, FHW, AK, Juneau Access Transportation Project, Improvements in the Lynn Canal/Taiya Inlet Corridor between Juneau and Haines/Skagway, Updated Information, Special-Use-Permit and COE Section 10 and 404 Permits, Tongass National Forest, Klondike Gold Rush National Historic Park, Haines States Forest, City and Borough of Juneau, Haines Borough, Cities Haines and Skagway, AK, Comment Period Ends: 03/21/2005, Contact: Tim Haugh (907) 586-7430.

Amended Notices

EIS No. 050014, Final EIS, FAA, CA, Los Angeles International Aiport Proposed Master Plan Improvements, Alternative D Selected, Enhanced Safety and Security Plan, Los Angeles County, CA, Wait Period Ends: February 22, 2005, Contact: David B. Kessler (310) 725-3615.

Revision of FR Notice Published on 01/21/2004: Correction to EIS Status from Draft to Final.

EIS No. 040544, Draft Supplemental EIS, FHW, UT, Legacy Parkway Project, Construction from I-215 at 2100 North in Salt Lake City to I-15 and US 89 near Farmington, Updated Information, Funding and US Army COE Section 404 Permit, Salt Lake and Davis Counties, UT, Comment Period Ends: March 4, 2005, Contact: Gregory Punske (801) 963-0182.

Revision of FR Notice Published on 12/03/2004: CEQ Comment Period Ending 02/01/2005 has been Extended to 03/04/2005.

Dated: January 25, 2005.
Robert W. Hargrove,
Director, NEPA Compliance Division, Office of Federal Activities.

[FR Doc. 05-1635 Filed 1-27-05; 8:45 am]

BILLING CODE 6560-50-M